FEDERAL COMMUNICATIONS COMMISSION

Sunshine Act Meeting; Open Commission Meeting Thursday, October 22, 2015

October 15, 2015.

The Federal Communications Commission will hold an Open Meeting on the subjects listed below on Thursday, October 22, 2015, which is scheduled to commence at 10:30 a.m. in Room TW-C305, at 445 12th Street SW., Washington, DC

Item No. | Bureau | Subject
1 | WIRELINE COMPETITION | TITLE: Rates for Interstate Inmate Calling Services (WC Docket No. 12-375). SUMMARY: The Commission will consider a Second Report and Order and Third Further Notice of Proposed Rulemaking that would adopt comprehensive reform of intrastate, interstate, and international ICS calls to ensure just, reasonable and fair ICS rates, and seek comment on additional measures the Commission could take to ensure that interstate and intrastate ICS are provided consistent with the statute and public interest.
2 | INTERNATIONAL AND MEDIA | TITLE: Review of Foreign Ownership Policies for Broadcast, Common Carrier and Aeronautical Radio Licensees under Section 310(b)(4) of the Communications Act of 1934, as Amended (GN Docket No. 15-236). SUMMARY: The Commission will consider a Notice of Proposed Rulemaking that would streamline the foreign ownership review process for broadcast licensees and applicants, and standardize the review process for broadcast, common carrier and aeronautical licensees and applicants.
3 | WIRELESS TELECOMMUNICATIONS | TITLE: Expanding the Economic and Innovation Opportunities of Spectrum Through Incentive Auctions (GN Docket No. 12-268). SUMMARY: The Commission will consider a Report and Order addressing when and in what areas 600 MHz Band wireless licensees will be deemed to “commence operations” for the purposes of establishing when the secondary and unlicensed users must cease operations and vacate the 600 MHz Band in those areas.
4 | OFFICE OF ENGINEERING AND TECHNOLOGY | TITLE: Expanding the Economic and Innovation Opportunities of Spectrum Through Incentive Auctions (GN Docket No. 12-268); Office of Engineering and Technology Releases and Seeks Comment on Updated OET-69 Software (ET Docket No. 13-26); and Office of Engineering and Technology Seeks to Supplement the Incentive Auction Proceeding Record Regarding Potential Interference Between Broadcast Television and Wireless Services (ET Docket No. 14-14). SUMMARY: The Commission will consider a Third Report & Order and First Order on Reconsideration that adopts rules to govern inter-service interference between broadcast television stations and wireless licensees in the 600 MHz Band following the incentive auction and sets out protection criteria for television stations and wireless operations in the band.
5 | MEDIA | TITLE: Expanding the Economic and Innovation Opportunities of Spectrum Through Incentive Auctions (GN Docket No. 12-268) and Channel Sharing by Full Power and Class A Stations Outside the Broadcast Television Spectrum Incentive Auction Context (MB Docket No. 15-137). SUMMARY: The Commission will consider a Second Order on Reconsideration to provide additional flexibility to broadcasters interested in the incentive auction channel sharing option by clarifying that “back-up” channel sharing agreements are permitted under the rules and providing more time for successful incentive auction bidders to transition to shared facilities after the auction.
6 | CONSUMER AND GOVERNMENTAL AFFAIRS | TITLE: Structure and Practices of the Video Relay Service Program (CG Docket No. 10-51) and Telecommunications Relay Services and Speech-to-Speech Disabilities (CG Docket No. 03-123). SUMMARY: The Commission will consider a Further Notice of Proposed Rulemaking on whether to modify, in part, the four-year compensation rate plan for video relay service (VRS) and whether to adopt measures that may enhance the functional equivalence of VRS. In the same item, the Commission will consider an Order to modify, in part, the currently applicable VRS compensation rates pending action on the Further Notice of Proposed Rulemaking.
7 | WIRELESS TELECOMMUNICATIONS, INTERNATIONAL AND OFFICE OF ENGINEERING AND TECHNOLOGY | TITLE: Use of Spectrum Bands Above 24 GHz for Mobile Radio Services (GN Docket No. 14-177); Establishing a More Flexible Framework to Facilitate Satellite Operations in the 27.5-28.35 GHz and 37.5-40 GHz Bands; Petition for Rulemaking of the Fixed Wireless Communications Coalition to Create Service Rules for the 42-43.5 GHz Band (RM-11664); Amendment of Parts 1, 22, 24, 27, 74, 80, 90, 95, and 101 to Establish Uniform License Renewal, Discontinuance of Operation, and Geographic Partitioning and Spectrum Disaggregation Rules and Policies for Certain Wireless Radio Services; and Allocation and Designation of Spectrum for Fixed-Satellite Services in the 37.5-38.5 GHz, 40.5-41.5 GHz and 48.2-50.2 GHz Frequency Bands (WT Docket No. 10-112); Allocation of Spectrum to Upgrade Fixed and Mobile Allocations in the 40.5-42.5 GHz Frequency Band; Allocation of Spectrum in the 46.9-47.0 GHz Frequency Band for Wireless Services; and Allocation of Spectrum in the 37.0-38.0 GHz and 40.0-40.5 GHz for Government Operations (IB Docket No. 97-95). SUMMARY: The Commission will consider a Notice of Proposed Rulemaking that proposes to create new flexible use service rules in certain bands above 24 GHz to support multiple uses, including mobile wireless.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2015-26799 Filed 10-19-15; 11:15 am]

BILLING CODE 6712-01-P